DEPARTMENT OF ENERGY

Federal Energy Regulatory Commission

[Docket Nos. AD22-11-000, AD21-9-000]

Office of Public Participation Fundamentals for Participating in FERC Matters; Notice of Virtual Workshop: Workshop on Filing Comments

Take notice that the Federal Energy Regulatory Commission (Commission) staff, will convene, in the above-referenced proceeding, a virtual workshop on August 30, 2022, from 2:00 p.m. to 3:00 p.m. Eastern time, to discuss how members of the public including consumers and consumer advocates can file comments on the record using FERC's eFiling and eComment online applications. The workshop will be held remotely.

The workshop will include video demonstrations of steps involved in filing a comment, followed by a presentation of useful tips for using the Commission's online applications and a question-and-answer portion of the workshop. The workshop will provide information on the commenting process to facilitate increased public participation in Commission processes and decision-making.

The workshop will be open for the public to attend, and there is no fee for attendance. Further details on the agenda, can be found on the FERC's Office of Public Participation website. Information on this technical workshop will also be posted on the Calendar of Events on the Commission's website, www.ferc.gov, prior to the event.

The workshop will be accessible under section 508 of the Rehabilitation Act of 1973. For accessibility accommodations, please send an email to accessibility@ferc.gov or call toll free 1-866-208-3372 (voice) or 202-502-8659 (TTY)or send a FAX to 202-208-2106 with the required accommodations.

For more information about the workshop, please contact Yewande Bayly of the Commission's Office of Public Participation at 202-502-6595 or send an email to OPP@ferc.gov.

Dated: July 11, 2022.
Kimberly D. Bose,
Secretary.

[FR Doc. 2022-15165 Filed 7-14-22; 8:45 am]

BILLING CODE 6717-01-P